DEPARTMENT OF ENERGY

Extension of the Public Scoping Period for the Supplemental Environmental Impact Statement for Decommissioning and/or Long-Term Stewardship at the West Valley Demonstration Project and Western New York Nuclear Service Center, Notice of Floodplain and Wetlands Involvement, and Draft Scope

AGENCY: New York State Energy Research and Development Authority, Department of Energy.

ACTION: Notice of extension.

SUMMARY: The U.S. Department of Energy (DOE) and the New York State Energy Research and Development Authority (NYSERDA) are extending the public scoping period for the Supplemental Environmental Impact Statement for Decommissioning and/or Long-Term Stewardship at the West Valley Demonstration Project and Western New York Nuclear Service Center (DOE/EIS-0226-S1), hereinafter referred to as the Supplemental Environmental Impact Statement (SEIS) for the West Valley Site.

DATES: The public scoping period is extended until Friday, May 25, 2018. DOE and NYSERDA invite public comments on the scope of the SEIS for the West Valley Site. Comments must be submitted by May 25, 2018, to ensure consideration; late comments will be considered to the extent practicable.

ADDRESSES: Written comments on the scope of the SEIS, requests to be placed on the SEIS mailing list, and requests for information may be submitted by U.S. mail to the DOE Document Manager, Mr. Martin Krentz, West Valley Demonstration Project, U.S. Department of Energy, 10282 Rock Springs Road, AC-DOE, West Valley, New York 14171-9799, by email to SEISWestValleySite@emcbc.doe.gov, or via the SEIS website at www.SEISWestValleySite.com.

Before including your address, phone number, email address, or other personal identifying information in your comment, please be advised that your entire comment—including your personal identifying information—may be made publicly available. If you wish for DOE to withhold your name and/or other personally identifiable information, please state this prominently at the beginning of your comment. You may also submit comments anonymously. Documents and information about the SEIS process are available online at the SEIS website at www.SEISWestValleySite.com, and in the public reading room at the Ashford Community and Training Center, 9377 NY-240, West Valley, New York 14171, (716) 942-6016.

FOR FURTHER INFORMATION CONTACT: For information regarding the West Valley Demonstration Project or the SEIS, contact Mr. Martin Krentz at the address given above; telephone: (716) 942-4007; or email: martin.krentz@emcbc.doe.gov. For general information on DOE's National Environmental Policy Act (NEPA) process, contact Mr. Brian Costner (GC-54), Acting Director, Office of NEPA Policy and Compliance, U.S. Department of Energy, 1000 Independence Avenue SW, Washington, DC 20585; telephone: (202) 586-4600; facsimile: (202) 586-7031; or leave a message at 1-800-472-2756, toll-free. Questions for NYSERDA should be directed to Dr. Lee Gordon, New York State Energy Research and Development Authority, 9030-B Route 219, West Valley, New York 14171; telephone: (716) 942-9960, ext. 4963; facsimile: (716) 942-9961; or email: Lee.Gordon@nyserda.ny.gov. Those seeking general information on the State Environmental Quality Review Act process should contact Janice Dean, Deputy Counsel, New York State Energy Research and Development Authority, 17 Columbia Circle, Albany, New York 12203-6399; telephone: (518) 862-1090, ext. 3117; facsimile: (518) 862-1091; or email: Janice.Dean@nyserda.ny.gov.

SUPPLEMENTARY INFORMATION: The Notice of Intent (NOI) and draft scope for the SEIS for the West Valley Site was published in the Federal Register on February 21, 2018 (83 FR 7464). In the NOI, DOE and NYSERDA announced their intent to jointly prepare the SEIS for the West Valley site and invited public comments on the proposed scope of the document during a public scoping period originally scheduled to end April 23, 2018. During the original scoping period DOE and NYSERDA conducted three public scoping meetings in New York. DOE and NYSERDA are extending the public scoping period until Friday, May 25, 2018.

Signed in Washington, DC, this 17th day of April 2018.
James M. Owendoff,
Principal Deputy Assistant Secretary for Environmental Management, Department of Energy.

[FR Doc. 2018-08522 Filed 4-20-18; 8:45 am]

BILLING CODE 6450-01-P